DEPARTMENT OF COMMERCE

National Telecommunications and Information Administration

[Docket No. 090210159-9160-01]

Notice of Availability of a Final Programmatic Environmental Assessment (PEA) and Draft Finding of No Significant Impact (FONSI) for the Public Safety Interoperable Communications (PSIC) Grant Program

AGENCY: National Telecommunications and Information Administration, U.S. Department of Commerce.

ACTION: Notice; request for comments.

SUMMARY: The National Telecommunications and Information Administration (NTIA) publishes this notice of availability to announce a 30-day comment period for a Final Programmatic Environmental Assessment (PEA) and Draft Finding of No Significant Impact (FONSI) written to evaluate the environmental impact of the Public Safety Interoperable Communications (PSIC) Grant Program. The Final PEA and Draft FONSI for the PSIC Grant Program are available for public review and comment. NTIA seeks public comment on the Final PEA and Draft FONSI from all interested parties.

DATES: Comments on the Final PEA and Draft FONSI must be received on or before March 23, 2009.

ADDRESSES: The Final PEA and Draft FONSI are available online at: http://www.regulations.gov with detailed instructions for making comments. Alternatively, written comments may be submitted to Ms. Laura Pettus, PSIC Grant Program, National Telecommunications and Information Administration, Room 4812, 1401 Constitution Avenue, NW, Washington, DC 20230. The Final PEA and Draft FONSI will also be available on NTIA's website at http://www.ntia.doc.gov/psic. All comments submitted will be posted on Regulations.gov.

FOR FURTHER INFORMATION CONTACT: Written requests for a hard copy of the Final PEA and the Draft FONSI should be submitted to: Ms. Laura Pettus, National Telecommunications and Information Administration, Room 4812, 1401 Constitution Avenue, NW, Washington, DC 20230.

SUPPLEMENTARY INFORMATION: The Digital Television Transition and Public Safety Act of 2005 directed NTIA, in consultation with the Department of Homeland Security (DHS), to establish and administer a grant program to assist public safety agencies in the advancement of interoperable communications.¹ The Act authorized NTIA to make payments not to exceed 1 billion, in the aggregate, through fiscal year 2010 to carry out the PSIC program. The grant program assisted public safety agencies in the acquisition of, deployment of, or training for the use of interoperable communications systems that can utilize reallocated public safety spectrum in the 700 MHz band for radio communication.²

¹ The Digital Television Transition and Public Safety Act of 2005 § 3006, 47 U.S.C. § 309 note (2008), Pub. L. No. 109-171, 120 Stat. 25. The PSIC grant program requirements were subsequently amended by the Implementing Recommendations of the 9/11 Commission Act of 2007 § 2201, 47 U.S.C. § 309 note (2008), Pub. L. No. 110-53, 121 Stat. 276.

² For additional information regarding the PSIC Grant Program, see, Public Safety Interoperable Communications Grant Program, Improving Interoperable Communications Nationwide: Overview of Initial State and Territory Investments, available at, http://www.ntia.doc.gov/psic/ PSIC%20Investment%20Data%20Analysis%20 (report%20only).pdf.

On September 30, 2007, the Public Safety Interoperable Communications (PSIC) Grant Program awarded 968,385,000 to fund interoperable communications projects from the 56 States and Territories.³ These awards represent the largest single infusion of Federal funding ever provided for State, Territory, and local agencies to implement communications solutions.

³ Section 4 of the Call Home Act of 2006, 47 U.S.C. § 309 note (2008), Pub. L. No. 109-459, 120 Stat. 3399, mandated that all PSIC funds be awarded by September 30, 2007.

NTIA prepared the final PEA and draft FONSI in accordance with the requirements of the National Environmental Policy Act of 1969 (NEPA) and the Council on Environmental Quality (CEQ) regulations for implementing NEPA.⁴ The public is invited to submit comments on both documents. See the ADDRESSES for instructions on submitting comments. The final PEA and draft FONSI may be reviewed at http://www.regulations.gov or on NTIA's website as noted above. In addition, copies may be obtained by writing to Ms. Laura Pettus as provided above.

⁴ National Environmental Policy Act of 1969, 42 U.S.C. § 4321 (2008); Council on Environmental Quality for Implementing the Procedural Provisions of NEPA, 40 C.F.R. parts 1500-1508 (2008).

Dated: February 13, 2009.
Kathy D. Smith,
Chief Counsel, National Telecommunications and Information Administration.

[FR Doc. E9-3494 Filed 2-18-09; 8:45 am]

BILLING CODE 3510-60-S